DEPARTMENT OF ENERGY

Federal Energy Regulatory Commission

[Docket No. CP06-125-000]

New England Gas Company, a Division of Southern Union Company and The Narragansett Electric Company, d/b/a National Grid; Notice of Application

April 20, 2006.

Take notice that on April 10, 2006, New England Gas Company (NEGASCO), a division of Southern Union Company, and The Narragansett Electric Company, d/b/a National Grid (Narragansett) (together, Applicants), filed with the Federal Energy Regulatory Commission an abbreviated joint application pursuant to section 7(f) of the Natural Gas Act, as amended, for an order requesting that the Commission vacate NEGASCO's section 7(f) service area determination granted by the Commission in 2004; grant Narragansett a section 7(f) service area determination, identical to the section 7(f) service area determination now held by NEGASCO; declare that Narragansett qualifies as a local distribution company in its service area for purposes of section 311 of the Natural Gas Policy Act (NGPA); and grant Narragansett a waiver of the regulatory requirements ordinarily applicable to a “natural gas company” under the NGA and the NGPA, including, but not limited to, reporting and accounting requirements and charges. These requests are necessitated by the pending sale of NEGASCO's facilities to Narragansett. Upon completion of the sale, the Applicants state that NEGASCO will no longer provide any gas distribution services in the state of Rhode Island and Narragansett will become the only natural gas local distribution company in that state, as NEGASCO is now.

This application is on file with the Commission and open for public inspection. The filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding the application should be direct to Thomas E. Knight, counsel for NEGASCO, Locke Liddell & Sapp LLP, 901 Fifteenth Street, NW., Washington, DC 20005, 202-408-7451; or to Roxane Maywalt, counsel for Narragansett, National Grid USA Service Company, Inc., Law Dep't A3, 300 Erie Boulevard West, Syracuse, New York 13202, 315-428-5187.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: May 11, 2006.

Magalie R. Salas,
Secretary.

[FR Doc. E6-6333 Filed 4-26-06; 8:45 am]

BILLING CODE 6717-01-P